DEPARTMENT OF HEALTH AND HUMAN SERVICES

Centers for Disease Control and Prevention

[60Day-25-25AW; Docket No. CDC-2024-0094]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled National Concussion Surveillance System. This data collection is designed to allow CDC to calculate the prevalence and incidence of traumatic brain injuries (TBI) for both adults and children, and the circumstances related to TBIs occurring in the preceding year.

DATES: CDC must receive written comments on or before January 17, 2025.

ADDRESSES: You may submit comments, identified by Docket No. CDC-2024-0094 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, H21-8, Atlanta, Georgia 30329; Telephone: 404-639-7570; Email: omb@cdc.gov.

SUPPLEMENTARY INFORMATION:

Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Concussion Surveillance System—New—National Center for Injury Prevention and Control (NCIPC), Centers for Disease Control and Prevention (CDC).

Background and Brief Description

In 2014, an Institute of Medicine (IOM) report titled “Sports-Related Concussions in Youth: Improving the Science, Changing the Culture,” recommended that the U.S. Centers for Disease Control and Prevention (CDC) establish and oversee a national surveillance system to accurately determine the incidence of sports-related concussions [i.e., mild traumatic brain injuries, or TBIs], including those in youth ages five to 21. The report further recommended that the cause, nature, and extent of the concussive injury also should be collected, including the sport or activity, level of competition, and signs and symptoms consistent with a concussion. The IOM recommendation was made because there were significant gaps in understanding of TBI, including concussion, incidence and prevalence estimates. Current non-fatal TBI surveillance estimates typically utilize emergency department (ED) or hospitalization-focused data sources. But these sources cannot account for injuries that go untreated or injuries diagnosed in primary care, urgent care, or specialty care settings, potentially missing information on millions of TBIs sustained each year. Without an accurate understanding of the burden, trends, and characteristics of these injuries, it is challenging to design or focus effective prevention programs, policies, or practices. The consequences from TBI are staggering, with many resulting in intensive and long-term care needs. This data collection could help fill significant knowledge gaps and inform prevention efforts across the country.

The purpose of this data collection is to calculate the 12-month prevalence and incidence of TBI for both adults and children, and the circumstances related to TBIs occurring in the preceding 12 months. The data collection instrument is largely based on the instrument used during the pilot that utilized cognitive testing prior to deployment. Data collected will include reports of head injuries experienced in the preceding 12 months, and the most recent head injury reported will be assessed for symptoms of TBI. We will also query respondents who sustained a head injury regarding the mechanism of injury (cause) and circumstances related to the TBI, medical care received, impact on social and school functioning, and information related to returning to work/school/play.

Data will be analyzed to produce nationally representative 12-month incidence and prevalence estimates of non-fatal TBI in children (ages 5-17) and adults. Data collected are likely to be used by state and local governments, researchers, voluntary health organizations, physicians, health educators, workplace wellness programs, healthcare systems, and professional and advocacy organizations to guide program investments, provide up-to-date information on symptom presentation, healthcare utilization patterns, and patient recovery among others, and to provide information on prevention of TBI.

Data obtained from this data collection are not available from currently existing databases, and the data needed for analysis cannot be added to existing data collection processes. This data collection will occur over three years. After each data collection year, findings will be reviewed to identify potential modifications to the methodology and survey for following year collection. Depending on the nature and scope of the improvements, a change request or a Revision package will be submitted to OMB for review and approval. CDC requests OMB approval for an estimated 5,656 annual burden hours. There is no cost to respondents other than their time to participate.

Estimated Annualized Burden Hours
Type of respondent | Form name | Number of respondents | Number of responses per respondent | Average burden per response (in hours) | Total burden (in hours)
Individuals and Households | Initial Invitation Letter | 57,405 | 1 | 1/60 | 957
| Reminder Postcard | 53,312 | 1 | 1/60 | 889
| Final Reminder Letter | 50,583 | 1 | 1/60 | 843
| Text Message Reminder | 27,696 | 1 | 1/60 | 462
| Screener | 10,058 | 1 | 4/60 | 671
| Survey, web | 8,682 | 1 | 11/60 | 1592
| Survey, phone | 1,318 | 1 | 11/60 | 242
Total |  |  |  |  | 5,656

Jeffrey M. Zirger,
Lead, Information Collection Review Office, Office of Public Health Ethics and Regulations, Office of Science, Centers for Disease Control and Prevention.

[FR Doc. 2024-26777 Filed 11-15-24; 8:45 am]

BILLING CODE 4163-18-P